AGENCY FOR INTERNATIONAL DEVELOPMENT

Information Collection Request; 60-Day Notice and Request for Comments, Data Collection Form for the USAID Science Champion Award for International Science and Engineering Fair-Affiliated Fairs

AGENCY: Agency for International Development (USAID).

ACTION: Notice of information collection; request for comment.

SUMMARY: The Research Division within the Innovation, Technology, and Research Hub (ITR), under the Bureau for Inclusive Growth, Partnerships, and Innovation (IPI), manages U.S. Agency for International Development (USAID) involvement in the annual Regeneron International Science and Engineering Fair (ISEF). Serving as a Special Award Organization at ISEF since 2014 has allowed the Agency to recognize and award students with the USAID Science for Development Award. In the lead up to ISEF, students compete in high school science fairs that are members of the global network of the Society for Science. USAID also awards the Science Champion Award at these fairs. Winners of the Science Champion Award are selected by the high school science fairs' judges and awards committees for projects that could potentially impact a global development challenge. In order to provide accurate accounting for these awards, we need to collect information from the public, specifically from Judging Committees of science fairs participating in the program.

DATES: All comments should be submitted within 60 calendar days from the date of this publication.

ADDRESSES: To access and review the electronic Google forms survey tool, please use https://forms.gle/NdYUDPhgAHFrpmqU8. Comments submitted in response to this notice should be submitted electronically through the Federal Register.

FOR FURTHER INFORMATION CONTACT: For specific questions related to collection activities, please contact Celia Laskowski, Program Analyst, USAID/IPI/ITR/R at stfellowships@usaid.gov or +1 202-704-5599.

SUPPLEMENTARY INFORMATION:

OMB Number: Not yet known.

Expiration Date: Not yet known.

Celia Laskowski,
Program Analyst, USAID/IPI/ITR/R.

[FR Doc. 2024-05741 Filed 3-18-24; 8:45 am]

BILLING CODE 6116-01-P